ENVIRONMENTAL PROTECTION AGENCY

[EPA-HQ-OAR-2003-0078; FRL-8776-2]

Agency Information Collection Activities; Submission to OMB for Review and Approval; Comment Request; Landfill Methane Outreach Program (Renewal), EPA ICR Number 1849.05, OMB Control Number 2060-0446

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to reinstate a previously approved ICR. The ICR that is abstracted below describes the nature of the collection and the estimated burden and cost.

DATES: Additional comments may be submitted on or before March 26, 2009.

ADDRESSES: Submit your comments, referencing docket ID number EPA-HQ-OAR-2003-0078 to (1) EPA online using http://www.regulations.gov (our preferred method), by e-mail to a-and-r-Docket@epa.gov, or by mail to: EPA Docket Center (EPA/DC), Environmental Protection Agency, Air and Radiation Docket, mail code 2282T, 1200 Pennsylvania Avenue, NW., Washington, DC 20460; and (2) OMB at: Office of Information and Regulatory Affairs, Office of Management and Budget (OMB), Attention: Desk Officer for EPA, 725 17th Street, NW., Washington, DC 20503.

FOR FURTHER INFORMATION CONTACT: Victoria Ludwig, Climate Change Division, Office of Atmospheric Programs, 6207J, Environmental Protection Agency, 1200 Pennsylvania Avenue, NW., Washington, DC 20460; telephone number: (202) 343-9291; fax number: (202) 343-2202; e-mail address: ludwig.victoria@epa.gov.

SUPPLEMENTARY INFORMATION: EPA has submitted the following ICR to OMB for review and approval according to the procedures prescribed in 5 CFR 1320.12. On June 3, 2008 (73 FR 31681), EPA sought comments on this ICR pursuant to 5 CFR 1320.8(d). EPA received no comments. Any additional comments on this ICR should be submitted to EPA and OMB within 30 days of this notice.

EPA has established a public docket for this ICR under docket ID number EPA-HQ-OAR-2003-0078, which is available for public viewing online at http://www.regulations.gov, and in person viewing at the Air and Radiation Docket in the EPA Docket Center (EPA/DC), EPA West, Room 3334, 1301 Constitution Avenue, NW., Washington, DC. The EPA Docket Center Public Reading Room is open from 8:30 a.m. to 4:30 p.m. Monday through Friday, excluding legal holidays. The telephone number for the Reading Room is (202) 566-1744 and the telephone number for the Air and Radiation Docket is (202) 566-1742.

Use EPA's electronic docket and comment system at http://www.regulations.gov to submit or view public comments, access the index listing of the contents of the docket, and access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Landfill Methane Outreach Program (Renewal).

ICR Numbers: EPA ICR Number 1849.05, OMB Control Number 2060-0446.

ICR Status: This ICR was discontinued on July 31, 2007. EPA is reinstating the previously approved ICR. An Agency may not conduct or sponsor, and a person is not required to respond to, a collection of information, unless it displays a currently valid OMB control number. The OMB control numbers for EPA's regulations in Title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Landfill Methane Outreach Program (LMOP), created by EPA as part of the Climate Change Action Plan, is a voluntary program designed to encourage and facilitate the development of environmentally and economically sound landfill gas (LFG) energy projects across the United States in order to reduce methane emissions from landfills. LMOP does this by educating local governments and communities about the benefits of LFG recovery and use; building partnerships between state agencies, industry, energy service providers, local communities, and other stakeholders interested in developing this valuable resource in their community; and providing tools to evaluate LFG energy (LFGE) potential. LMOP signs voluntary Memoranda of Understanding (MOU) with these organizations to enlist their support in promoting cost-effective LFG utilization. The information collection includes completion and submission of the MOU, and annual completion and submission of information forms that include basic information on landfill gas energy projects with which the organizations are involved. The information collection also includes a one-time effort to update the LMOP Landfill and Landfill Gas Energy Project Database. The information collection is to be utilized to maintain up-to-date data and information about LMOP Partners and landfill gas energy projects with which they are involved. The data will also be used by the public to assess LFGE project development opportunities in the United States. In addition, the information collection will assist LMOP in evaluating the reduction of methane emissions from landfills. Responses to the information collection are voluntary.

Burden Statement: The annual public reporting and recordkeeping burden for this collection of information is estimated to average 5 hours per response. Burden means the total time, effort, or financial resources expended by persons to generate, maintain, retain, and disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Landfill owners and operators (both public and private), landfill gas energy project developers, manufacturers and suppliers of landfill gas energy equipment, utilities, industries using landfill gas energy, state agencies involved in energy, air pollution, economic development and solid waste management, and non-profits involved in the solid waste management, public works, local government and renewable energy sectors.

Estimated Number of Respondents: 1,279.

Frequency of Response: Initially, occasionally, annually.

Estimated Total Annual Hour Burden: 5,887.

Estimated Total Annual Cost: $344,827, which includes $1,342 in annualized O&M costs.

Changes in the Estimates: There is an increase of 4,354 hours in the total estimated annual respondent burden compared with that identified in the ICR previously approved by OMB. This increase reflects a large growth in the number of LMOP Partners since the last renewal. Since the last ICR renewal, LMOP no longer collects information annually from Energy, State, and non-developer Industry Partners, the information forms have been simplified into pre-populated spreadsheets, and other collection efficiencies have been implemented such as the option to submit MOUs electronically. As a result of these changes, the average number of hours per Partner has decreased, but the total hourly burden for LMOP Partners still increased because of an increase in the number of Partners. For perspective on the magnitude of Partner growth, there were 365 Partners at the end of 2003 when the ICR was last renewed, whereas there were 675 Partners as of July 2007. This indicates an 85% increase in Partners since the last renewal. The remainder of the increase in total hourly burden comes from a planned initiative to collect critical landfill data from 1,000 additional landfill owners and operators. These data are necessary in order to better respond to public data requests and evaluate the potential of future LFGE opportunities. This type of data collection has not occurred during LMOP's history. This change is the result of a program change.

Dated: February 18, 2009.
John Moses,
Acting Director, Collection Strategies Division.

[FR Doc. E9-3912 Filed 2-23-09; 8:45 am]

BILLING CODE 6560-50-P